NUCLEAR REGULATORY COMMISSION

[Docket Nos. 50-133 and 72-027; NRC-2021-0205]

Pacific Gas and Electric Company, Humboldt Bay Power Plant, Unit 3

AGENCY: Nuclear Regulatory Commission.

ACTION: License termination; issuance.

SUMMARY: The U.S. Nuclear Regulatory Commission (NRC) is noticing the termination of the Pacific Gas and Electric Company (PG&E) Humboldt Bay Power Plant, Unit 3 (HBPP, Unit 3) Facility Operating License, No. DPR-7, located near Eureka, California.

DATES: The license termination for DPR-7 was issued on November 18, 2021.

ADDRESSES: Please refer to Docket ID NRC-2021-0205 when contacting the NRC about the availability of information regarding this document. You may obtain publicly available information related to this document using any of the following methods:

• Federal Rulemaking Website: Go to https://www.regulations.gov and search for Docket ID NRC-2021-0205. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. See the request dated October 21, 2021 (ADAMS Accession No. ML21294A421) and the NRC staff's Safety Evaluation Report (SER) (ADAMS Accession No. ML21295A251). Documents identified in the notice are available to interested persons through ADAMS, as indicated in the SER.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Amy M. Snyder, Office of Nuclear Material Safety and Safeguards, U.S. Nuclear Regulatory Commission, Washington, DC 20555-0001, telephone: 301-415-6822, email: Amy.Snyder@nrc.gov.

SUPPLEMENTARY INFORMATION:

I. Background

Humboldt Bay Power Plant, Unit 3 (HBPP, Unit 3 or the facility), was a 65- Megawatt electric Boiling Water Reactor, which was last operated in 1976, and was permanently defueled in 1984.

The HBPP, Unit 3 is located about four miles true southwest of the city of Eureka, Humboldt County, California, and consists of approximately 113 acres of land. PG&E, the licensee, is operating Humboldt Bay Generating Station, a new dual fueled (natural gas and diesel) power plant, on the Humboldt Bay site adjacent to the south side of the facility. The Humboldt Bay Independent Spent Fuel Storage Installation (ISFSI) is located on site approximately 600 feet northwest of the Humboldt Bay Generating Station.

On May 4, 2016, in response to PG&E's application dated May 3, 2013, as supplemented on February 14, March 31, April 2, and August 13, of 2014, and March 16, 2015, the Commission issued license Amendment No. 45. Among other things, this license amendment approved HBPP, Unit 3's License Termination Plan (LTP), incorporated it into HBPP, Unit 3's license, specified limits to the changes the licensee could make without prior NRC approval. Since the issuance of Amendment No. 45 and the approval of the HBPP, Unit 3 LTP, the NRC staff has reviewed Final Status Survey Reports (FSSRs) of several survey units associated with HBPP, Unit 3. During its review, the NRC staff noted that the licensee had not accounted for either all its Radionuclides of Concern (ROCs) or its insignificant radionuclides in a manner consistent with the LTP. When asked about these issues, the licensee responded with additional data. By letter dated February 8, 2021, as supplemented on April 29, and May 20, 2021, PG&E also submitted a request to amend License No. DPR-7 for HBPP, Unit 3 to change how it assesses insignificant/hard-to-detect (HTD) ROCs. The NRC approved the amended LTP by a license amendment, dated June 24, 2021, as corrected on July 8, 2021.

The licensee conducted decommissioning activities at HBPP, Unit 3 in accordance with the approved LTP from May 2016 to July 2021. In accordance with the approved LTP, the licensee conducted Final Status Surveys (FSSs) to demonstrate that site, excluding the ISFSI, meet the criteria for unrestricted release as presented in Section 20.1402 of title 10 of the Code of Federal Regulations (10 CFR). Details of the FSS results were submitted to the NRC FSSRs. These reports are listed in Table 2 of the SER.

PG&E submitted a request for termination of the HBPP, Unit 3 Facility Operating License, No. DPF-7, on October 21, 2021. The application states that PG&E has completed the remaining radiological decommissioning and FSSs of the HBPP, Unit 3 site in accordance with the NRC approved LTP, and that the FSSs demonstrate that the site (entire site, excluding the ISFSI), meet the criteria for decommissioning and release of the site for unrestricted use in accordance with 10 CFR part 20, subpart E.

The NRC conducted performance-based in-process inspections of the licensee's FSS program, identified in Table 1 of the SER, during the decommissioning process. The purpose of the inspections was to verify that the FSSs were being conducted in accordance with the commitments made by the licensee in the LTP, and to evaluate the quality of the FSSs by reviewing the FSS procedures, methodology, equipment, surveyor training and qualifications, document quality control, and survey data supporting the FSSRs. In addition, the NRC conducted numerous independent confirmatory surveys to verify the FSS results obtained and reported by the licensee. Confirmatory surveys consisted of surface scans for beta and gamma radiation, direct measurements for total beta activity, and collection of smear samples for determining removable radioactivity levels.

The NRC staff reviewed the FSS report and concludes that: (i) The remaining dismantlement has been performed in accordance with the approved LTP; (ii) the FSSs and associated documentation, including an assessment of dose contributions associated with parts released for use before approval of the LTP, demonstrate that the entire site, excluding the ISFSI, have met the criteria for decommissioning in 10 CFR part 20, subpart E; and (iii) PG&E has met the 10 CFR part 30, 40, and 70 requirements for forwarding specific records to NRC prior to license termination. Therefore, NRC is terminating HBPP, Unit 3 Facility Operating License No. DPR-7.

For the Nuclear Regulatory Commission.
Dated: November 22, 2021.
Ashley B. Roberts,
Acting Division Director, Decommissioning, Uranium Recovery and Waste Programs, Office of Nuclear Material Safety and Safeguards.

[FR Doc. 2021-25887 Filed 11-26-21; 8:45 am]

BILLING CODE 7590-01-P